DEPARTMENT OF LABOR

Office of the Secretary

Combating Exploitative Child Labor by Promoting Sustainable Livelihoods and Educational Opportunities for Children in Egypt

AGENCY: Bureau of International Labor Affairs, U.S. Department of Labor.

ACTION: New. Notice of availability of funds and solicitation for Cooperative Agreement Applications (SGA). The full announcement is posted on http://www.grants.gov and USDOL/ILAB's Web site at http://www.dol.gov/ILAB/grants/main.htm.

Funding Opportunity Number: SGA 10-09, “Combating Exploitative Child Labor by Promoting Sustainable Livelihoods and Educational Opportunities for Children in Egypt.”

Catalog of Federal Domestic Assistance (CFDA) Number: Not applicable.

SUMMARY: The U.S. Department of Labor (USDOL), Bureau of International Labor Affairs (ILAB) will award up to $9.5 million through a cooperative agreement(s) to one or more qualifying organizations to combat exploitative child labor, particularly the worst forms of child labor, in Egypt. Projects funded under SGA 10-09 must combat child labor by seeking to achieve the following five goals:

1. Reducing exploitative child labor, especially the worst forms through the provision of direct educational services and by addressing root causes of child labor, including innovative strategies to promote sustainable livelihoods of target households;

2. Strengthening policies on child labor, education, and sustainable livelihoods, and the capacity of national institutions to combat child labor, address its root causes, and promote formal, nonformal and vocational education opportunities to provide children with alternatives to child labor;

3. Raising awareness of exploitative child labor and its root causes, and the importance of education for all children and mobilizing a wide array of actors to improve and expand education infrastructures;

4. Supporting research, evaluation, and the collection of reliable data on child labor, its root causes, and effective strategies, including educational and vocational alternatives, microfinance and other income generating activities to improve household income; and

5. Ensuring the long-term sustainability of these efforts.

Application and Submission Information: The full-text version of SGA 10-09 is available on http://www.grants.gov and USDOL/ILAB's Web site at http://www.dol.gov/ILAB/grants/main.htm.

Applications in response to this solicitation may be submitted in hard copy to USDOL or electronically via http://www.grants.gov. Applications submitted by other means, including e-mail, telegram, or facsimile (FAX) will not be accepted.

Key Dates: The deadline for submission of applications is 5 p.m. Eastern Standard Time (EST) on November 22, 2010. Applicants are advised to submit their applications in advance of the deadline. All technical questions regarding SGA 10-09 must be sent to USDOL by October 15, 2010 in order to receive a response. USDOL will make all cooperative agreement awards on or before December 31, 2010.

Agency Contacts: All technical questions regarding SGA 10-09 should be sent to Georgiette Nkpa, U.S. Department of Labor's Office of Procurement Services, via e-mail (e-mail address: nkpa.georgiette@dol.gov) no later than October 15, 2010; telephone: (202-693-4570)—please note that this is not a toll-free-number).

Signed at Washington, DC, this 29th day of September 2010.
Cassandra R. Mitchell,
Grant Officer.

[FR Doc. 2010-24870 Filed 10-4-10; 8:45 am]

BILLING CODE 4510-28-P